DEPARTMENT OF THE INTERIOR

Bureau of Land Management

[19X.LLAK930000 L16100000.PN0000]

Notice of Availability of the Draft Bering Sea-Western Interior Resource Management Plan and Environmental Impact Statement, Alaska; Notice of Public Meetings and Subsistence Hearings

AGENCY: Bureau of Land Management, Interior.

ACTION: Notice of Availability.

SUMMARY: The Bureau of Land Management (BLM), Anchorage Field Office, Anchorage, Alaska, is issuing for public comment the Draft Resource Management Plan (RMP) and Environmental Impact Statement (EIS) for the Bering Sea-Western Interior (BSWI) planning area. The BLM is also announcing that it will hold public meetings and Alaska National Interest Lands Conservation Act (ANILCA) Section 810 subsistence-related hearings to receive comments on the BSWI RMP/EIS.

DATES: To ensure that comments will be considered, the BLM must receive written comments on the Draft RMP/EIS within 90 days following the date the Environmental Protection Agency publishes its Notice of Availability of the Draft RMP/EIS in the Federal Register. The BLM will announce public meetings and ANILCA Section 810 subsistence-related hearings and any other public participation activities at least 15 days in advance through public notices, media releases, and/or mailings.

ADDRESSES: You may provide comments by mail, fax, email, or in person. Mail comments to: BLM Anchorage Field Office, Attention—BSWI RMP, 4700 BLM Road, Anchorage, AK 99507; fax comments to 907-267-1267; email comments to BSWI_RMP_COMMENT@blm.gov; or hand-deliver comments during normal business hours (9 a.m. to 4 p.m.) to the BLM Anchorage Field Office at 4700 BLM Road, Anchorage, AK 99507.

You can review the BSWI RMP/EIS online at BLM Alaska's website at www.blm.gov/alaska/BSWI. Copies of the BSWI Draft RMP/EIS are available for viewing in the BLM Anchorage Field Office at the above address; the BLM Alaska Public Information Center (Public Room) at the Federal Building at 222 West 8th Avenue, Anchorage; the Alaska Resources Library & Information Services (ARLIS) Library Building at 3211 Providence Drive, Suite 111, Anchorage; and the Yukon Delta National Wildlife Refuge Office at 807 Eddie Hoffman Highway, Bethel. You may also request an electronic or paper copy of the BSWI Draft RMP/EIS by contacting Jorjena Barringer, BLM project lead, at 907-267-1246.

FOR FURTHER INFORMATION CONTACT: Jorjena Barringer RMP Project Manager, BLM Anchorage Field Office, telephone: 907-267-1246, email: BSWI_RMP_COMMENT@blm.gov. People who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: The BSWI Planning Area is located in western Alaska and encompasses approximately 62.3 million acres of land, including 13.5 million acres managed by the BLM. The planning area extends south from the Central Yukon watershed through the Kuskokwim River watershed, including all lands west of Denali National Park and Preserve to the Bering Sea. The BSWI RMP/EIS does not apply to non-BLM-managed lands, including lands conveyed through the Alaska Native Claims Settlement Act or Alaska Statehood Act; Federal lands administered by the U.S. Fish and Wildlife Service; private lands; or Native allotments (including townsite lots).

This RMP replaces the 1981 Southwest Management Framework Plan and a small portion of the 1986 Central Yukon Resource Management Plan, including amendments. It provides:

• Consolidated direction to address land and resource use and development on BLM-managed lands within the planning area and under one RMP, and

• Analysis of the environmental effects that could result from the implementation of the alternatives proposed in the BSWI Draft RMP/EIS.

This Draft RMP/EIS evaluates four alternatives for managing the planning area. Alternative A, the no action alternative, represents existing management described by current land use plans and provides the benchmark against which to compare the other alternatives. Alternative B emphasizes reducing the potential for competition between recreational or developmental uses and subsistence resources by identifying key areas for additional management actions. Alternative C, which is identified as the preferred alternative, emphasizes adaptive management at the planning level to maintain the long-term sustainability of resources while providing for multiple resource uses. Alternative D provides additional flexibility at the project-specific implementation level and fewer management restrictions at the planning level. Alternatives B, C, and D were developed using input from the public, stakeholders, and cooperating agencies. Major planning issues addressed include subsistence resources, including water resources, fisheries, and wildlife; forestry; minerals and mining; recreation; travel management and access; and areas of critical environmental concern.

Section 810 of ANILCA requires BLM to evaluate the effects of the alternatives presented in the Draft EIS on subsistence resources and activities, and to hold public hearings if it finds that any alternative may significantly restrict subsistence uses. The preliminary evaluation of subsistence impacts indicates that each of the alternatives analyzed in the Draft EIS and the associated cumulative impacts may significantly restrict subsistence uses. Therefore, BLM will hold public hearings on subsistence resources and activities in conjunction with the Draft EIS public meetings in, or in the vicinity of, potentially affected communities.

Before including your address, phone number, email address, or other personally identifying information in your comment, you should be aware that your entire comment—including your personally identifying information—may be made publicly available at any time. While you can ask the BLM in your comment to withhold your personally identifying information from public review, we cannot guarantee that we will be able to do so.

Authority: 16 U.S.C. 3120(a); 40 CFR 1506.6(b)

Ted A. Murphy,
Acting State Director, Alaska.

[FR Doc. 2019-05291 Filed 3-19-19; 8:45 am]

BILLING CODE 4310-JA-P